DEPARTMENT OF HEALTH AND HUMAN SERVICES

Centers for Disease Control and Prevention

[30Day-26-1128]

Agency Forms Undergoing Paperwork Reduction Act Review

In accordance with the Paperwork Reduction Act of 1995, the Centers for Disease Control and Prevention (CDC) has submitted the information collection request titled “State Unintentional Drug Overdose Reporting System (SUDORS)” to the Office of Management and Budget (OMB) for review and approval. CDC previously published a “Proposed Data Collection Submitted for Public Comment and Recommendations” notice on 9/30/2025 to obtain comments from the public and affected agencies. CDC received 15 comments relating to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

State Unintentional Drug Overdose Reporting System (SUDORS) (OMB Control Number 0920-1128, exp. 2/26/2026)—Revision—National Center for Injury Prevention and Control (NCIPC), Centers for Disease Control and Prevention (CDC).

Background and Brief Description

There has been a rapid increase in opioid overdose deaths since 2013. In the United States, more people are now dying of drug overdose than automobile crashes, although opioids—both opioid pain relievers (OPRs) and illicit forms such as heroin—are also a major factor in overdose-related automobile crashes. On October 26, 2017, the U.S. Department of Health and Human Services (HHS) declared the opioid overdose epidemic to be a national public health emergency.

CDC established the State Unintentional Drug Overdose Reporting System (SUDORS) in order to detect new trends in fatal unintentional drug overdoses, support targeting drug overdose prevention efforts, and assess the progress of the HHS initiative to reduce opioid misuse and overdoses. Respondents are state- or jurisdiction-level health departments. The SUDORS surveillance system generates detailed, timely public health information on unintentional, fatal opioid-related drug overdoses and has been used to inform prevention and response efforts at the national, state, and local levels. SUDORS consolidates and supplements information available to health departments, including vital statistics and records created by medical examiners and coroners (ME/C). SUDORS is built on a web-based software platform and a collaborative surveillance and data integration model developed by CDC and health departments to improve understanding of homicide, suicide, undetermined deaths, and unintentional firearm deaths (National Violent Death Reporting System (NVDRS), OMB Control No. 0920-0607).

Through SUDORS, CDC currently collects information that is not provided on death certificates, such as whether the drug(s) causing the overdoses were injected or taken orally; a toxicology report on the decedent, if available; and risk factors for fatal drug overdoses including previous drug overdoses, decedent's mental health, and whether the decedent recently exited a treatment program. Without this information, efforts to prevent drug overdose deaths are often based on limited information available on the death certificate and anecdotal evidence.

This is a Revision request for the currently approved State Unintentional Drug Overdose Reporting System (SUDORS)—OMB Control No. 0920-1128 (Expiration Date 2/28/2026). With this Revision, CDC is requesting OMB approval for an additional three years to continue data collection efforts. SUDORS assists with ongoing surveillance of fatal unintentional and undetermined intent drug overdoses to support prevention and response efforts. Specifically, participating health departments must abstract medical examiner and/or coroner (ME/C) data and death certificate (DC) data on CDC required data elements into SUDORS.

This Revision request does not entail a change in the estimated burden per response, which is based on the time needed for a health department to retrieve and refile vital statistics records, ME/C records. Modifications to SUDORS include: (1) implementation of updates to the web-based system to improve performance, functionality, and accessibility; and (2) addition of several new data elements to the system. The estimated burden per response does not include the time needed to abstract SUDORS data variables from those sources, since this activity is funded by the SUDORS cooperative agreement. The total estimated annualized burden is 43,631 hours. There is no cost to respondents other than their time to participate.

Estimated Annualized Burden Hours
Type of respondent | Form name | Number of respondents | Total number of responses per respondent | Average burden per response (in hours)
Public Agencies | Retrieving and refiling records | 51 | 1,711 | 30/60

Jeffrey M. Zirger,
Lead, Information Collection Review Office, Office of Public Health Ethics and Regulations, Office of Science, Centers for Disease Control and Prevention.

[FR Doc. 2026-01616 Filed 1-26-26; 8:45 am]

BILLING CODE 4163-18-P